DEPARTMENT OF THE TREASURY

Financial Research Advisory Committee

AGENCY: Office of Financial Research, Treasury.

ACTION: Financial Research Advisory Committee-Solicitation of Applications for Committee Membership.

SUMMARY: The Office of Financial Research is soliciting applications for membership on its Financial Research Advisory Committee.

FOR FURTHER INFORMATION CONTACT: Susan Stiehm, Designated Federal Officer, Office of Financial Research, Department of the Treasury, (212) 376-9808.

SUPPLEMENTARY INFORMATION: Pursuant to the Federal Advisory Committee Act, (Pub. L. 92-463, 5 U.S.C. App. 2 § 1-16, as amended), the Treasury Department established a Financial Research Advisory Committee (Committee) to provide advice and recommendations to the Office of Financial Research (OFR) and to assist the OFR in carrying out its duties and authorities.

(I) Authorities of the OFR

Background

The OFR was established under Title I of the Dodd-Frank Wall Street Reform and Consumer Protection Act (Pub. L. 111-203, July 21, 2010). The purpose of the OFR is to support the Financial Stability Oversight Council (Council) in fulfilling the purposes and duties of the Council and to support the Council's member agencies by:

—Collecting data on behalf of the Council, and providing such data to the Council and member agencies;

—Standardizing the types and formats of data reported and collected;

—Performing applied research and essential long-term research;

—Developing tools for risk measurement and monitoring;

—Performing other related services;

—Making the results of the activities of the OFR available to financial regulatory agencies; and

—Assisting such member agencies in determining the types and formats of data authorized by the Dodd-Frank Act to be collected by such member agencies.

(II) Scope and Membership of the Financial Research Advisory Committee

The Financial Research Advisory Committee was established to advise the OFR on issues related to the responsibilities of the office. It may provide its advice, recommendations, analysis, and information directly to the OFR and the OFR may share the Committee's advice and recommendations with the Secretary of the Treasury or other Treasury officials. The OFR will share information with the Committee as the Director determines will be helpful in allowing the Committee to carry out its role.

The Financial Research Advisory Committee is an advisory committee that was established on April 6, 2012 and renewed its charter on March 8, 2016. The OFR is currently soliciting applications for membership in order to provide for rotation of membership, as provided in its original and renewed charter, as well as to provide for a diverse and balanced body with a variety of interests, backgrounds, and viewpoints represented. Providing for such diversity enhances the views and advice offered by the Committee.

(II) Application for Advisory Committee Appointment

Treasury seeks applications from individuals representative of a constituency within the fields of economics, financial institutions and markets, statistical analysis, financial markets analysis, econometrics, applied sciences, risk management, data management, information standards, technology, or other areas related to OFR's duties and authorities. The terms of members chosen to serve may vary. Membership on the Committee is limited to the individuals appointed and is non-transferrable. Regular attendance is essential to the effective operation of the Committee. Some members of the Committee may be required to adhere to the conflict of interest rules applicable to Special Government Employees, as such employees are defined in 18 U.S.C. 202(a). These rules include relevant provisions in 18 U.S.C. related to criminal activity, Standards of Ethical Conduct for Employees of the Executive Branch (5 CFR part 2635), and Executive Order 12674 (as modified by Executive Order 12731).

To apply, an applicant must submit an appropriately-detailed resume and a cover letter describing their interest, reasons for application, and qualifications. In accordance with Department of Treasury Directive 21-03, a clearance process includes fingerprints, tax checks, and a Federal Bureau of Investigation criminal check. Applicants must state in their application that they agree to submit to these pre-appointment checks.

The application period for interested candidates will extend to April 22, 2016. Applications should be submitted in sufficient time to be received by the close of business on the closing date and should be sent to OFR_FRAC@ofr.treasury.gov or by mail to: Office of Financial Research, Department of the Treasury, Attention: Susan Stiehm, 1500 Pennsylvania Avenue NW., MT-1330, Washington, DC 20220.

Dated: March 21, 2016.
Barbara Shycoff,
Chief of External Affairs.

Action Memorandum Clearance Sheet

Subject/Title: Federal Register Notice for third Financial Research Advisory Committee Meeting.

Drafted by: Susan Stiehm.

Contributions by: John Zitko.

| Office, Title | Name | Date
Approved ¹ by: | OFR, Director | Richard Berner | 3/21
Reviewed ² by: | OFR, COO | Nicole Bynum |
| OFR, Chief of Staff OFR, Senior Attorney Advisor | Kathleen Victorino John Zitko | 3/14
| OFR, CDO | Con Crowley | 3/14
| OFR, CTO OFR, Deputy Director, Research and Analysis | John Talbot Stacey Schreft | 3/14
Cleared ³ by: | OFR, Chief Counsel | Matt Reed | 3/15
| OFR, Chief of External Relations | Barbara Shycoff | 3/11
¹ The approver is the final review before the document can be sent to the intended recipient. It is recommended that you limit the number of approvers to 1.
² A reviewer has read the document and provided comments on part of the document. This person has not necessarily endorsed all of the language within the document.
³ A clearer has read the document and endorses the language in the final document relevant to the clearer's office.

Delivery Instructions

Return to policy office for delivery.

Deliver through the OFR Front Office (include specific instructions below).

Other (see below).

Specific delivery instructions:

[FR Doc. 2016-06798 Filed 3-24-16; 8:45 am]

BILLING CODE 4810-25-P